DEPARTMENT OF THE TREASURY

Office of Investment Security

31 CFR Parts 800 and 802

Proposed Regulations Pertaining to Certain Investments in the United States by Foreign Persons and Proposed Regulations Pertaining to Certain Transactions by Foreign Persons Involving Real Estate in the United States

Correction

In proposed rule document 2021-24597, appearing on pages 62978-62980 in the issue of Monday, November 15, 2021, make the following correction:

On page 24597, in the third column, on the second line of the DATES section, “December 15, 2021” is corrected to read “December 10, 2021”.

[FR Doc. C1-2021-24597 Filed 11-17-21; 8:45 am]

BILLING CODE 0099-10-P